DEPARTMENT OF TRANSPORTATION

Federal Aviation Administration

[Docket No. 2021-0076]

Agency Information Collection Activities: Requests for Comments; Clearance of a Renewed Approval of Information Collection: Renewal of AVIATOR (Automated Vacancy Information Access Tool for Online Referral) Customer Satisfaction Survey—Corrections

AGENCY: Federal Aviation Administration (FAA), DOT.

ACTION: Notice; correction.

SUMMARY: This is a correction to a notice that was published on November 14, 2024.The Docket Number in the initial submission was incorrect. It was published as “2120-0076”. The correct Docket Number is 2021-0076.

DATES: Written comments should be submitted by December 16, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Toni Main-Valentin by email at: toni.main-valentin@faa.gov; phone: 405-954-0870.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information.

OMB Control Number: 2120-0699.

Title: AVIATOR (Automated Vacancy Information Access Tool for Online Referral) Customer Satisfaction Survey.

Form Numbers: N/A (electronic).

Type of Review: Renewal of an information collection.

Background: The Federal Register Notice with a 60-day comment period soliciting comments on the following collection of information was published on June 5, 2024 (89 FR 48213). The Government Performance and Results Act of 1993 (GPRA) Section 2(b)(3) requires agencies to “improve Federal program effectiveness and public accountability by promoting a new focus on results, service quality, and customer satisfaction”. In addition, as stated in the White House “Memorandum for Heads of Executive Departments and Agencies” regarding Executive Order No. 12862, “the actions the order prescribes, such as surveying customers, surveying employees, and benchmarking, shall be continuing agency activities”. This collection supports the Department of Transportation (DOT) strategic goal of Organizational Excellence.

In compliance with the Government Paperwork Elimination Act (GPEA), all of our data collection will be 100% electronic using an online form; Applicants will be asked to complete the survey just before they exit the system. The AVIATOR Customer Satisfaction Survey is designed to identify potential problems with FAA's automated staffing solutions as well as to evaluate customer satisfaction with the on-line application process. The information is not gathered by any other collection. It will be difficult, if not impossible, to improve the AVIATOR system's overall performance and customer satisfaction without utilizing the survey as a performance measurement tool.

Respondents: 495,972 applicants (from January 1, 2021, to December 31, 2023) had the opportunity to complete a survey. This gives us a 3-year average of 165,324 applicants per year. We estimate that it takes 3 minutes to complete one survey. Our data indicates that 11.14% of applicants (18,424 averaged for 3 years) completed surveys during this timeframe.

Frequency: On occasion/as interested.

Estimated Average Burden per Response: Three (3) minutes per person.

Estimated Total Annual Burden: 18,424 respondents × 0.05 (3/60) = 921.

Issued in New Cumberland, PA, on November 6, 2024.
Erik L. Chuba,
IT Project Manager, Office of Information and Technology (AIT), Enterprise Program Management Services (EPMS), AEM-320, Business Management Portfolio, Branch B.

[FR Doc. 2024-27347 Filed 11-21-24; 8:45 am]

BILLING CODE 4910-13-P